DEPARTMENT OF ENERGY

Federal Energy Regulatory Commission

Combined Notice of Filings #1

Take notice that the Commission received the following electric rate filings:

Docket Numbers: ER10-1511-010; ER10-2231-008.

Applicants: Kentucky Utilities Company, Louisville Gas and Electric Company.

Description: Supplement to 06/30/2023, Triennial Market Power Analysis for Southeast Region of Louisville Gas and Electric Company et al.

Filed Date: 8/9/24.

Accession Number: 20240809-5187.

Comment Date: 5 p.m. ET 8/30/24.

Docket Numbers: ER24-2052-002.

Applicants: Southwest Power Pool, Inc.

Description: Tariff Amendment: 4225 Algodon Solar Energy & SPS Facilities Service Agreement to be effective 7/16/2024.

Filed Date: 8/14/24.

Accession Number: 20240814-5129.

Comment Date: 5 p.m. ET 9/4/24.

Docket Numbers: ER24-2477-001.

Applicants: American Electric Power Service Corporation, PJM Interconnection, L.L.C.

Description: Tariff Amendment: American Electric Power Service Corporation submits tariff filing per 35.17(b): Amendment to Attachment 1 of ILDSA SA No. 1679 to be effective 11/1/2024.

Filed Date: 8/15/24.

Accession Number: 20240815-5044.

Comment Date: 5 p.m. ET 9/5/24.

Docket Numbers: ER24-2781-000.

Applicants: Midcontinent Independent System Operator, Inc.

Description: 205(d) Rate Filing: 2024-08-15_SA 4320 MEC-MEC GIA (J1532) to be effective 8/5/2024.

Filed Date: 8/15/24.

Accession Number: 20240815-5011.

Comment Date: 5 p.m. ET 9/5/24.

Docket Numbers: ER24-2782-000.

Applicants: Tri-State Generation and Transmission Association, Inc.

Description: 205(d) Rate Filing: Amendment to Rate Schedule FERC No. 1 to be effective 10/15/2024.

Filed Date: 8/15/24.

Accession Number: 20240815-5073.

Comment Date: 5 p.m. ET 9/5/24.

Docket Numbers: ER24-2783-000.

Applicants: PJM Interconnection, L.L.C.

Description: 205(d) Rate Filing: Amended ISA, Service Agreement No. 6753; AD2-022/AD2-023 to be effective 10/15/2024.

Filed Date: 8/15/24.

Accession Number: 20240815-5078.

Comment Date: 5 p.m. ET 9/5/24.

Docket Numbers: ER24-2784-000.

Applicants: Alabama Power Company, Georgia Power Company, Mississippi Power Company.

Description: 205(d) Rate Filing: Alabama Power Company submits tariff filing per 35.13(a)(2)(iii): Hester Hill Solar LGIA Filing to be effective 8/6/2024.

Filed Date: 8/15/24.

Accession Number: 20240815-5080.

Comment Date: 5 p.m. ET 9/5/24.

Docket Numbers: ER24-2785-000.

Applicants: NorthWestern Corporation.

Description: 205(d) Rate Filing: SA 683 2nd Rev—Control Center Services Agreement with MATL to be effective 8/1/2024.

Filed Date: 8/15/24.

Accession Number: 20240815-5087.

Comment Date: 5 p.m. ET 9/5/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 15, 2024.
Debbie-Anne A. Reese,
Acting Secretary.

[FR Doc. 2024-18730 Filed 8-20-24; 8:45 am]

BILLING CODE 6717-01-P